Proclamation 7581 of July 29, 2002

The Bicentennial of the United States Patent and Trademark Office, 2002

By the President of the United States of America

A Proclamation

For two centuries, the United States Patent Office has played a vital role in the scientific, technical, and economic development of our Nation by granting inventors patents for their inventions. As Abraham Lincoln once stated, patents “added the fuel of interest to the fire of genius.”

The first Patent Act of the United States was signed into law by President George Washington on April 10, 1790. Under this legislation, patent applicants petitioned the Secretary of State for the grant of a patent. The Secretary, in consultation with the Secretary of War and the Attorney General, determined whether the invention or discovery was “sufficiently useful and important.” At that time, both the President and the Secretary of State signed patents.

As the number of applications for patents grew, it became necessary to develop an organized review process to handle the increasing volume. In 1793, the law was changed to eliminate examinations, and the job of receiving and granting patents was given to clerks in the Department of State.

On June 1, 1802, the Secretary of State appointed Dr. William Thornton to serve as the first clerk at the Department of State. In that position, Dr. Thornton was solely responsible for receiving and recording patent applications and issuing patents, and his office effectively became the first patent office. From this simple beginning, the Patent Office has grown to become a modern institution of ideas and innovations.

For 200 years, millions of inventors have sought to protect their inventions through the American patent system. These patented inventions include Thomas Edison's electric lamp, Alexander Graham Bell's telegraphy, Orville and Wilbur Wright's flying machine, John Deere's steel plow, George Washington Carver's use of legume oils to produce cosmetics and paint, and Edwin Land's Polaroid camera.

In 1881, the functions of the Patent Office grew to also include the registration of trademarks. Today, the United States Patent and Trademark Office annually receives more than 326,000 patent applications and 232,000 trademark applications. Since the signing of the first Patent Act over two centuries ago, more than 6.3 million United States patents have been issued. The United States Patent and Trademark Office represents one of the largest repositories of scientific and technical knowledge in the world, and much of this information is available on the Internet. Similarly, 2 million current trademark registrations are also available online.

As the Patent Office enters its third century, we commend the important work of the United States Patent and Trademark Office that supports scientific, technological, and intellectual property developments; promotes growth in our economy; and encourages increased prosperity for our Nation.

NOW, THEREFORE, I, GEORGE W. BUSH, President of the United States of America, by virtue of the authority vested in me by the Constitution and laws of the United States, do hereby proclaim the Bicentennial of the United States Patent and Trademark Office. I call upon all Americans to recognize this anniversary with appropriate programs, ceremonies, and activities, thereby honoring the Office's many scientific, economic, and cultural contributions to our Nation and the world.

IN WITNESS WHEREOF, I have hereunto set my hand this twenty-ninth day of July, in the year of our Lord two thousand two, and of the Independence of the United States of America the two hundred and twenty-seventh.

B

[FR Doc. 02-19485

Filed 7-30-02; 8:45 am]

Billing code 3195-01-P